DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-0361.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Application for the Reviewer Contact Information Form (OMB No. 0930-0255)

Section 501(h) of the Public Health Service (PHS) Act (42 U.S.C. 290aa) directs the Assistant Secretary of SAMHSA to establish such peer review groups as are needed to carry out the requirements of Title V of the PHS Act. SAMHSA administers a large discretionary grants program under authorization of Title V, and, for many years, SAMHSA has funded grants to provide prevention and treatment services related to substance abuse and mental health.

In support of its grant peer review efforts, SAMHSA desires to continue to expand the number and types of reviewers it uses on these grant review committees. To accomplish that end, SAMHSA has determined that it is important to proactively seek the inclusion of new and qualified representatives on its peer review groups. Accordingly, SAMHSA has developed an application form for use by individuals who wish to apply to serve as peer reviewers.

The application form has been developed to capture the essential information about the individual applicants. The most consistent method to accomplish this is through completion of a standard form by all interested persons which captures information about knowledge, education, and experience in a consistent manner from all interested applicants. SAMHSA will use the information provided on the form to identify appropriate peer grant reviewers. Depending on their experience and qualifications, applicants may be invited to serve as grant reviewers.

The following changes are proposed in the form:

1. Added Federally Qualified Health Centers (FQHC), Technical Training Centers (TTC) and Certified Community Behavioral Health Clinics (CCBHC) in the Affiliations Section—Office of Behavioral Health Equity (OBHE) Recommendation

2. Changed to “Prefer not to Answer” in the Gender section—OBHE Recommendation

3. Added High School and Certificate to Education section—OBHE Recommendation

4. Changed Alaskan Native/American Indian to American Indian/Alaskan Native and added “Mixed Race” in the Race section—OBHE and Tribal Office Recommendation

5. Added “No License” in the License section—OBHE Recommendation

6. Added “Tribal Health System” and “Screening/Prevention/Emergency Preparedness” in the Secondary Expertise section—OBHE and Tribal Office Recommendation

7. Added “Peer Experience/Lived Experience” in the Secondary Expertise section—OBHE Recommendation

8. Added “Junior Reviewer” and “Community Reviewer” to Grant Review Experience section—OBHE Recommendation

9. Added the SAMHSA Values Statement at the end of the form—OBHE Recommendation

The following table shows the annual response burden estimate.

Number of respondents | Responses/ respondent | Burden/ responses (hours) | Total burden hours
500 | 1 | 1.5 | 750

Send comments to Carlos Graham, SAMHSA Reports Clearance Officer, 5600 Fishers Lane, Room 15E57-A, Rockville, Maryland 20857, OR email a copy to carlos.graham@samhsa.hhs.gov. Written comments should be received by July 25, 2022.

Carlos Graham,
Reports Clearance Officer.

[FR Doc. 2022-11313 Filed 5-25-22; 8:45 am]

BILLING CODE 4162-20-P